FEDERAL TRADE COMMISSION

Agency Information Collection Activities; Proposed Collection; Extension of Public Comment Period

AGENCY: Federal Trade Commission (FTC).

ACTION: Notice of extension of public comment period.

SUMMARY: The FTC is soliciting public comments on proposed information requests to Patent Assertion Entities (“PAEs”) asserting patents in a variety of sectors, as well as a group of other entities asserting patents specifically in the wireless communications sector, including manufacturers and other non-practicing entities and organizations engaged in licensing. The Commission has now determined to extend the public comment period until December 16, 2013.

DATES: Comments must be received on or before December 16, 2013.

ADDRESSES: Interested parties may file a comment online or on paper, by following the instructions in the Request for Comment part of the SUPPLEMENTARY INFORMATION section below. Write “PAE Reports: Paperwork Comment; Project No. P131203” on your comment, and file your comment online at https://ftcpublic.commentworks.com/ftc/paestudypra, by following the instructions on the web-based form. If you prefer to file your comment on paper, mail or deliver your comment to the following address: Federal Trade Commission, Office of the Secretary, Room H-113 (Annex J), 600 Pennsylvania Avenue NW., Washington, DC 20580.

FOR FURTHER INFORMATION CONTACT: William F. Adkinson, Jr., Attorney Advisor, Office of Policy Planning, Federal Trade Commission, 600 Pennsylvania Avenue NW., Washington, DC 20580; (202) 326-2096; paestudy@ftc.gov.

SUPPLEMENTARY INFORMATION: On September 27, 2013, the Commission announced that it would seek public comments on a proposal to gather information from approximately 25 companies known as Patent Assertion Entities (“PAEs”), along with 15 other entities asserting patents specifically in the wireless communications sector. For purposes of this notice, PAEs are firms with a business model based primarily on purchasing patents and then attempting to generate revenue by asserting the intellectual property against persons who are already practicing the patented technology.¹ A notice containing the proposed information requests and seeking public comment was published in the Federal Register on October 3, 2013.² The Commission intends to use this information to add to the existing literature and evidence on PAE activity. These comments will be considered before the FTC submits a request for Office of Management and Budget review of the compulsory process orders described in this notice under the Paperwork Reduction Act. The compulsory process orders will seek information from firms concerning, among other things, patent acquisition, litigation, and licensing practices.

¹ The Commission distinguishes PAEs from other non-practicing entities or NPEs that primarily seek to develop and transfer technology, such as universities, research entities and design firms. Fed. Trade Comm'n, The Evolving IP Marketplace: Aligning Patent Notice and Remedies with Competition, 8 n.5 (2011), available at http://www.ftc.gov/os/2011/03/110307patentreport.pdf.

² See Federal Trade Commission: Agency Information Collection Activities; Proposed Collection; Comment Request, 78 FR 61,352 (Oct. 3, 2013), available at http://www.ftc.gov/os/fedreg/2013/10/131003agencyinfofrn.pdf.

The Commission has now determined to extend the public comment period until December 16, 2013. The Commission will not consider requests for further extension. You may file a comment online or on paper, and the content of the comment should conform to the requirements detailed in the October 3, 2013 Federal Register Notice. For the Commission to consider your comment, we must receive it on or before December 16, 2013. Write “PAE Reports: Paperwork Comment; Project No. P131203” on your comment. Your comment, including your name and your state, will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential,” as discussed in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).³ Your comment will be kept confidential only if the FTC General Counsel grants your request in accordance with the law and the public interest.

³ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/paestudypra, by following the instructions on the web-based form. If this Notice appears at http://www.regulations.gov/#!home, you also may file a comment through that Web site.

If you file your comment on paper, write “PAE Reports: Paperwork Comment; Project No. P131203” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before December 16, 2013. You can find more information, including routine uses permitted by the Privacy Act, in the Commission's privacy policy, at http://www.ftc.gov/ftc/privacy.htm.

By direction of the Commission.
Donald S. Clark,
Secretary.

[FR Doc. 2013-28528 Filed 11-27-13; 8:45 am]

BILLING CODE 6750-01-P